DEPARTMENT OF COMMERCE

Foreign-Trade Zones Board

[B-8-2026]

Foreign-Trade Zone (FTZ) 230, Notification of Proposed Production Activity; Qorvo US, Inc.; (Semiconductor Wafers, Modules, and Chips); Greensboro, North Carolina

Qorvo US, Inc. submitted a notification of proposed production activity to the FTZ Board (the Board) for its facilities in Greensboro, North Carolina, within Subzone 230K. The notification conforming to the requirements of the Board's regulations (15 CFR 400.22) was received on January 15, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: telecommunications inductors; modules (integrated circuit switch; amplifier); printed circuit board antennas; low-temperature co-fired ceramic filters; aluminum capacitors; capacitor chips (ceramic single layer; ceramic multi-layer); resistors (two terminal fixed surface mounted; fixed surface mounted chip); thermistors; printed circuit boards; circuit board connectors; diodes; packaged transistors; transistors; light-emitting diodes; integrated circuit-based frequency and signal control units; dice controllers for background processing; amplifier wafers (gallium arsenide; gallium nitride); and, radio frequency integrated circuits (duty rates are duty-free).

The proposed foreign-status materials/components include: calcium chlorides; clay desiccants; plastic wafer trays; wafer hoop rings; semiconductor tape reels; polyethylene bags; tapes (carrier; cover); cardboard boxes; polypropylene strapping; precut copper wires; telecommunications inductors; ferrite beads; switches (discrete; integrated circuit antenna; limit); switch dies; amplifiers (power with duplexer integrated circuits; balanced X band gallium nitride low noise; feedback; heterojunction bipolar transistor broadband feedback; monolithic microwave integrated circuit; solid state power; variable gain; driver); circuits (antenna tuner switch integrated; up/down converter); electromagnetic shields; circuit boards (antenna printed; multi-layer printed; semiconductor testing device); filters (low temperature co-fired ceramic; thin-film; high pass; low pass); capacitors (tantalum; aluminum); ceramic capacitor chips (single layer; multi-layer); resistors (two terminal surface mounted fixed; carbon film; fixed surface mounted chip); resistor networks; thermistors; connectors (coaxial; terminal; printed circuit board); coin battery cell surface mount device holders; diodes (Zener; signal; rectifier; light-emitting); transistors (packaged; discrete; power); quartz piezoelectric crystals; wafers (8 inch bulk acoustic wave filter; 6 inch surface acoustic wave filter; 6 inch or 8 inch background dice controller; 6 inch heterojunction bipolar transistor amplifier; 6 inch high-electron mobility transistor amplifier; 6 inch gallium arsenide amplifier; 4 inch or 6 inch gallium nitride amplifier; 4 inch, 6 inch, or 8 inch amplifier module); bias controllers; radio frequency transceivers; attenuators; digital attenuators; doublers (power; frequency); heat sinks; beamformers; phase shifters; silicon wafer carriers (6 inch or 8 inch); integrated circuit lids; semiconductor probe cards; and, semiconductor device test boards (duty rate ranges from duty-free to 5.0%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign (PF) status (19 CFR 146.41). The request also indicates that polyethylene bags are subject to an antidumping/countervailing duty (AD/CVD) order/investigation if imported from certain countries. The Board's regulations (15 CFR 400.13(c)(2)) require that merchandise subject to AD/CVD orders, or items which would be otherwise subject to suspension of liquidation under AD/CVD procedures if they entered U.S. customs territory, be admitted to the zone in PF status.

Public comment is invited from interested parties. Submissions shall be addressed to the Board's Executive Secretary and sent to: ftz@trade.gov. The closing period for their receipt is March 3, 2026.

A copy of the notification will be available for public inspection in the “Online FTZ Information System” section of the Board's website.

For further information, contact Juanita Chen at juanita.chen@trade.gov.

Dated: January 16, 2026.
Elizabeth Whiteman,
Executive Secretary.

[FR Doc. 2026-01111 Filed 1-21-26; 8:45 am]

BILLING CODE 3510-DS-P